DEPARTMENT OF JUSTICE

Notice of Lodging of Consent Decree and Proposed Prospective Purchaser Agreement Under the Comprehensive Environmental Response, Compensation, and Liability Act

Under 28 CFR 50.7, notice is hereby given that on April 18, 2000, a proposed Consent Decree in United States v. Scott County Sportsmen's Association, Case No. 30-00-CV-10052 (S.D. Iowa) was lodged with the United States District Court for the Southern District of Iowa, Davenport Division. The Consent Decree settles claims by the United States, against Scott County Sportsmen's Association (SCSA) under Section 107 of the Comprehensive Environmental Response, Compensation, and Liability Act (CERCLA), 42 U.S.C. 9607. The Complaint of the United States seeks past and future CERCLA response costs incurred by EPA in connection with the Nahant Marsh Superfund Site (the Site) and for damages for injuries to natural resources at the Site as determined by the Department of the Interior (Interior), the Natural Resource Trustee. Defendant SCSA owned property on the Site and used it for target and skeet shooting, resulting in releases of lead, a hazardous substance.

The Consent Decree requires SCSA to record a conservation easement for its 78-acre property at the Site in favor of the Iowa Natural Heritage Foundation (INHF) for preservation of the land as a reserve for wildlife and to prevent residential, commercial and industrial development of the land. The SCSA is required to transfer ownership of its property at the Site to the City of Davenport, Iowa (the City), and notify EPA of the transfer. All proceeds from the sale of the Property will be paid to the United States. The City agrees to pay the purchase price of $86,000 to EPA (which will receive $81,000) and to Interior (which will receive $5,000) pursuant to a proposed Agreement and Covenant Not to Sue, or Prospective Purchaser Agreement, entered into between the United States and the City. Under the terms of the Prospective Purchaser Agreement, the City will also place a restrictive covenant on the land that restricts residential development.

In exchange for its commitments under the Consent Decree, Defendant SCSA will receive a covenant not to sue pursuant to Sections 106 and 107(a) of CERCLA, 42 U.S.C. 9606 AND 9607(a), for response actions and response costs relating to the Site. Defendant SCSA will also receive a covenant not to sue for natural resource damages under CERCLA.

The Department of Justice will receive for a period of thirty (30) days from the date of this publication comments relating to the Consent Decree. Comments should be addressed to the Assistant Attorney General of the Environment and Natural Resources Division, Department of Justice, Washington, DC 20530, and should refer to United States v. Scott County Sportsmen's Association, Case No. 3-00-CV-10052 (S.D. Iowa), D.J. Ref. No. 90-11-2-1372/1.

The Consent Decree may be examined at the office of the United States Attorney for the Southern District of Iowa, U.S. Courthouse Annex, 110 East Court Avenue, Suite 286, Des Moines, Iowa 50309. The Consent Decree may also be examined at the office of Region VII of the U.S. Environmental Protection Agency, 726 Minnesota Avenue, Kansas City, Kansas 66101. A copy of the Consent Decree may also be obtained by mail from the Department of Justice Consent Decree Library, P.O. Box 7611, Washington, DC 20044. In requesting a copy, please enclose a check in the amount of $15.00 (with exhibits) (25 cents per page reproduction cost) payable to the Consent Decree Library. If requesting a copy of the Consent Decree exclusive of exhibits, please enclose a check in the amount of $7.50 (25 cents per page reproduction cost) payable to the Consent Decree Library.

Joel M. Gross,
Chief, Environmental Enforcement Section, Environmental and Natural Resources Division.

[FR Doc. 00-12731 Filed 5-19-00; 8:45 am]

BILLING CODE 4410-15-M